DEPARTMENT OF ENERGY

Federal Energy Regulatory Commission

[Project No. P-2744-043]

N.E.W. Hydro, LLC; Notice of Technical Meeting

Project Name and Number: Menominee/Park Mill Hydroelectric Project No. 2744.

Date and Time of Meeting: March 27, 2015; 10 a.m. Eastern Time (9 a.m. Central Time).

Place: Telephone conference with N.E.W. Hydro, Inc.

FERC Contact: Chelsea Hudock, chelsea.hudock@ferc.gov or (202) 502-8448.

Purpose of Meeting: To discuss the applicant's responses (filed on April 2, 2014 and December 2, 2014) to the Commission's Additional Information Requests filed on August 26, 2014 and December 31, 2013, and other outstanding questions following the Commission's review of the N.E.W. Hydro's application, filed on February 28, 2013.

A summary of the meeting will be prepared and filed for the project's records.

All local, state, and Federal agencies, Indian tribes, and other interested parties are invited to participate by phone. Please contact Chelsea Hudock at chelsea.hudock@ferc.gov or (202) 502-8448 by close of business March 17, 2015, to RSVP and to receive specific instructions on how to participate.

Dated: March 12, 2015.
Kimberly D. Bose,
Secretary.

[FR Doc. 2015-06206 Filed 3-17-15; 8:45 am]

BILLING CODE 6717-01-P